DEPARTMENT OF HEALTH AND HUMAN SERVICES

Centers for Disease Control and Prevention

[30Day-07-0004]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

National Disease Surveillance Program—II. Disease Summaries (0920-0004)—Revision—National Center for Preparedness, Detection, and Control of Infectious Diseases (proposed) (NCPDCID), Centers for Disease Control and Prevention (CDC).

Background and Brief Description

Surveillance of the incidence and distribution of disease has been an important function of the U.S. Public Health Service (PHS) since 1878. Through the years, PHS/CDC has formulated practical methods of disease control through field investigations. The CDC National Disease Surveillance Program is based on the premise that diseases cannot be diagnosed, prevented, or controlled until existing knowledge is expanded and new ideas developed and implemented. Over the years, the mandate of CDC has broadened to include preventive health activities and the surveillance systems maintained have expanded.

CDC and the Council of State and Territorial Epidemiologists (CSTE) collect data on disease and preventable conditions in accordance with jointly approved plans. Changes in the surveillance program and in reporting methods are effected in the same manner. At the onset of this surveillance program in 1968, the CSTE and CDC decided on which diseases warranted surveillance. These diseases are reviewed and revised based on variations in the public's health. Surveillance forms are distributed to the State and local health departments who voluntarily submit these reports to CDC at variable frequencies, either weekly or monthly. CDC then calculates and publishes weekly statistics via the Morbidity and Mortality Weekly Report (MMWR), providing the states with timely aggregates of their submissions.

The following diseases/conditions are included in this program: Diarrheal disease surveillance (includes campylobacter, salmonella, and shigella), foodborne outbreaks, arboviral surveillance (ArboNet), Influenza virus (includes the annual survey and influenza-like illness), Respiratory and Enterovirus surveillance, rabies, waterborne diseases, cholera and other vibrio illnesses, calicivirus surveillance, and Listeria case form. These data are essential on the local, state, and Federal levels for measuring trends in diseases, evaluating the effectiveness of current prevention strategies, and determining the need for modifying current prevention measures.

This request is for approval of the data collection for three years. Because of the distinct nature of each of the diseases, the number of cases reported annually is different for each. There is no cost to respondents other than their time. The total estimated annualized burden hours are 21,107.

Estimate of Annualized Burden Hours
Form | Number of respondents | Number of responses | Avg. burden
Diarrheal Disease Surveillance:
—Campylobacter (electronic) | 53 | 52 | 3/60
—Salmonella (electronic) | 53 | 52 | 3/60
—Shigella (electronic) | 53 | 52 | 3/60
Foodborne Outbreak Form | 54 | 25 | 15/60
Arboviral Surveillance (ArboNet) | 57 | 1421 | 4/60
Influenza:
—Influenza virus (fax, Oct-May) | 8 | 33 | 10/60
—Influenza virus (fax, year round) | 15 | 52 | 10/60
*** Influenza virus (Internet; Oct-May) | 13 | 33 | 10/60
*** Influenza virus (Internet; year round) | 24 | 52 | 10/60
—Influenza virus (electronic, Oct-May) | 9 | 33 | 5/60
—Influenza virus (electronic, year round) | 14 | 52 | 5/60
Influenza Annual Survey | 83 | 1 | 15/60
Influenza-like Illness (Oct-May) | 824 | 33 | 15/60
Influenza-like Illness (year round) | 496 | 52 | 15/60
Monthly Respiratory & Enterovirus Surveillance Report:
—Excel format (electronic) | 25 | 12 | 15/60
National Respiratory & Enteric Virus Surveillance System (NREVSS) | 90 | 52 | 10/60
Rabies (electronic) | 50 | 12 | 8/60
Rabies (paper) | 3 | 12 | 15/60
Waterborne Diseases Outbreak Form | 57 | 1 | 20/60
Cholera and other Vibrio illnesses | 450 | 1 | 20/60
Calicivirus surveillance (CaliciNet) | 20 | 5 | 5/60
Listeria Case Form | 53 | 1 | 30/60

Deborah Holtzman,
Reports Clearance Officer, Centers for Disease Control and Prevention.

[FR Doc. E7-704 Filed 1-18-07; 8:45 am]

BILLING CODE 4163-18-P